DEPARTMENT OF HEALTH AND HUMAN SERVICES

Administration for Community Living

Announcing the Intent To Award a Single-Source Supplement for the Alternatives to Guardianship Youth Resource Center Cooperative Agreement

ACTION: Notice.

SUMMARY: The Administration for Community Living (ACL) announces the intent to award a single-source supplement to the current cooperative agreement held by the University of Massachusetts for the Alternatives to Guardianship Youth Resource Center cooperative agreement. The purpose of this project is to divert high school students with intellectual and developmental disabilities (I/DD) away from guardianship to less restrictive decisional supports. The target audience for this information includes youth with I/DD, families, and caregivers of high school students with I/DD, teachers, education administrators, advocates, vocational rehabilitation counselors, guidance counselors, and school district officials. The administrative supplement for FY 2023 will amount to $200,000, bringing the total award for FY 2023 to $500,000.

FOR FURTHER INFORMATION CONTACT: For further information or comments regarding this program supplement, contact Dana Fink, U.S. Department of Health and Human Services, Administration for Community Living, Administration on Disabilities, (202) 795-7604 or via email dana.fink@acl.hhs.gov.

SUPPLEMENTARY INFORMATION: This supplementary funding will expand the Alternatives to Guardianship Youth Resource Center's engagement and education efforts around diverting high school students with I/DD away from guardianship to less restrictive decisional supports. As a result of funding this Center, ACL expects that:

• More students with I/DD will have more decisional options, such as Powers of Attorney, supported-decision-making, joint bank accounts, bill paying services, and medical or educational release forms, on completion of high school;

• Fewer young adults with I/DD will be subject to guardianship;

• The public will become more knowledgeable of alternatives to guardianship; and

• Youth will become more independent by gaining job experience and personal responsibilities.

This supplement will fund:

• Support to enhance the engagement of youth advisory board members, including (1) a dedicated staff member for facilitation and administrative coordination and support and; (2) paid opportunities for youth advisory board members to be more deeply engaged in project activities.

• Continued support for two additional staff members from grant partner Self-Advocates Becoming Empowered who have joined the youth ambassador training team.

• Additional training for project staff and partners on allyship and augmentative and alternative communication (AAC) to support a state team of AAC users.

• Support for travel for youth ambassadors and youth advisors to participate in conference presentations.

• Supervisory support for the new youth trainer position that will begin August 2023. This youth trainer will join the Youth Ambassador workgroup and be part of the training team that facilitates the third cohort of youth ambassadors from Texas, California, and New York.

• Continued enhancement to the project website, which includes a dedicated page for each of the 40+ youth ambassadors, youth-friendly products and videos, and plain language documents.

The administrative supplement for FY 2023 will amount to $200,000, bringing the total award for FY 2023 to $500,000.

Program Name: Center for Youth Voice Youth Choice (CYVYC) Alternatives to Guardianship Youth Resource Center.

Recipient: University of Massachusetts, Boston.

Period of Performance: The supplement award will be issued for the fourth year of the five-year project period of September 1, 2023, through August 31, 2024.

Total Supplement Award Amount: $200,000.

Award Type: Cooperative Agreement.

Statutory Authority: This program is authorized under the Developmental Disabilities Assistance and Bill of Rights Act of 2000 Pub. L. 106-402, Section 161(2) (B), (C) and (D).

Basis for Award:

The University of Massachusetts is currently funded to carry out the CYVYC Project for the period of September 1, 2020 through August 31, 2025. Much work has already been completed and further tasks are currently being accomplished. It would be unnecessarily time consuming and disruptive to the CYVYC project and the beneficiaries being served for ACL to establish a new grantee at this time when critical services are presently being provided in an efficient manner.

Dated: September 4, 2023.
Alison Barkoff,
Senior official performing the duties of the Administrator and the Assistant Secretary for Aging.

[FR Doc. 2023-19391 Filed 9-7-23; 8:45 am]

BILLING CODE 4154-01-P